DEPARTMENT OF TRANSPORTATION

Federal Railroad Administration

Petition for Waiver of Compliance

In accordance with part 211 of Title 49 Code of Federal Regulations (CFR), notice is hereby given that the Federal Railroad Administration (FRA) has received a request for a waiver of compliance with certain requirements of its safety standards. The individual petition is described below, including the party seeking relief, the regulatory provisions involved, the nature of the relief being requested, and the petitioner's arguments in favor of relief from the requirements of 49 CFR part 236, as detailed below.

Norfolk Southern Corporation

[Docket Number FRA-2010-0011]

The Norfolk Southern Corporation (NS) seeks relief from the requirements of the Rules, Standards, and Instructions, Title 49 CFR 236.377 Approach Locking, 236.378 Time Locking, 236.379 Route Locking, 236.380 Indication Locking, and 236.381 Traffic Locking, regarding performance of locking test at intervals not to exceed 2 years, on processor-based solid-state systems to the extent that only the following be required every 4 years after initial testing or program change:

1. Performing appropriate test on equipment external to the solid-state interlocking at the interlocking site to verify integrity of this equipment, including verifying the integrity of underground cable connecting the solid-state interlocking to the external equipment. Equipment that would be verified to the processor inputs would include power switch control and indication, track circuit indication, signal aspect control, and if used, searchlight signal control and indication.

2. Verifying that the executive and application software has not changed since the previous locking test was made. This verification includes verifying accuracy of the check sum and CRC values of all programmable elements used in the solid-state interlocking equipment at the interlocking, as well as verifying the correct version and revision levels of the software being used. This verification is done by comparing the parameters found on all programmable elements at the location with those parameters found in the Software Management System (SMS) for the location.

3. Verifying the run time of variable run time elements employed at the solid-state interlocking and ensuring that the run times of these are in accordance with timings specified on the design plans.

Applicant's justification for relief: NS feels that tests being performed on a 2-year interval provide no real safety benefit since the equipment operates using programmed logic that once installed does not change. FRA's Subpart H rule-making has resulted in the invoking of a strict software change and revision control process for application and executive software of solid-state systems, with the underlying premise of this rule-making being that safety is maintained when software revision levels and software changes are controlled and managed. NS believes that architectural features inherent to solid-state interlockings permit them to consistently deliver enhanced safety as compared to their relay-based counterparts. The dual microprocessor design of these systems where identical processes are executed in parallel and where these systems are able to continuously monitor operational status as well as status of ancillary components enables solid-state systems to deliver an overall superior level of safety as compared to relay-based counterparts. NS believes that these attributes have contributed to the solid-state's successful delivery of an unparalleled track record in the areas of safety and reliability. NS currently employs 650 solid-state interlocking systems, many of which have been in service approaching 25 years. In the years since first deployed, there have been no recorded instances of these systems experiencing unsafe-side failure attributed to undetected system hardware or executive software malfunction.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0011) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on March 10, 2010.
Grady C. Cothen, Jr.,
Deputy Associate Administrator for Safety Standards and Program Development.

[FR Doc. 2010-5754 Filed 3-16-10; 8:45 am]

BILLING CODE 4910-06-P